SMALL BUSINESS ADMINISTRATION

[Declaration of Disaster #3631]

State of Ohio (Amendment #2)

In accordance with notices received from the Department of Homeland Security “ Federal Emergency Management Agency “ effective September 27 and 29, 2004, the above numbered declaration is hereby amended to establish the incident period for this disaster as beginning August 27, 2004, and continuing through September 27, 2004. The declaration is also amended to include Athens, Gallia, Mahoning, Meigs, and Vinton Counties as disaster areas due to severe storms and flooding.

In addition, applications for economic injury loans from small businesses located in the contiguous counties of Jackson, Lawrence, and Ross in the State of Ohio; and Cabell, Jackson, and Mason Counties in the State of West Virginia may be filed until the specified date at the previously designated location. All other counties contiguous to the above named primary counties have previously been declared.

All other information remains the same, i.e., the deadline for filing applications for physical damage is November 18, 2004 and for economic injury the deadline is June 20, 2005.

(Catalog of Federal Domestic Assistance Program Nos. 59002 and 59008)

Dated: October 6, 2004.
Herbert L. Mitchell,
Associate Administrator for Disaster Assistance.

[FR Doc. 04-22927 Filed 10-12-04; 8:45 am]

BILLING CODE 8025-01-P